DEPARTMENT OF ENERGY

Federal Energy Regulatory Commission

Combined Notice of Filings #1

April 11, 2008.

Take notice that the Commission has received the following Natural Gas Pipeline Rate and Refund Report filings:

Docket Numbers: RP03-36-031.

Applicants: Dauphin Island Gathering Partners.

Description: Dauphin Island Gathering Partners submits Fourth Revised Sheet 10A to FERC Gas Tariff, First Revised Volume 1, to be effective 4/9/08.

Filed Date: 04/08/2008.

Accession Number: 20080409-0028.

Comment Date: 5 p.m. Eastern Time on Monday, April 21, 2008.

Docket Numbers: RP96-272-072.

Applicants: Northern Natural Gas Company.

Description: Northern Natural Gas Company submits 48 Revised Sheet 66A to FERC Gas Tariff, Fifth Revised Volume 1, to be effective on April 11, 2008.

Filed Date: 04/10/2008.

Accession Number: 20080411-0092.

Comment Date: 5 p.m. Eastern Time on Tuesday, April 22, 2008.

Docket Numbers: RP96-312-181.

Applicants: Tennessee Gas Pipeline Company.

Description: Tennessee Gas Pipeline Co submits a revised Exhibit A to the Gas Transportation Agreement pursuant Rate Schedule FT-A with AFG Industries, Inc, to be effective 4/1/08.

Filed Date: 04/07/2008.

Accession Number: 20080408-0009.

Comment Date: 5 p.m. Eastern Time on Monday, April 21, 2008.

Docket Numbers: RP99-518-104.

Applicants: Gas Transmission Northwest Corporation.

Description: Gas Transmission Northwest Corporation submits Fourteenth Revised Sheet 24 et al to FERC Gas Tariff, Third Revised Volume 1-A, to be effective 4/9/08.

Filed Date: 04/08/2008.

Accession Number: 20080409-0029.

Comment Date: 5 p.m. Eastern Time on Monday, April 21, 2008.

Docket Numbers: RP08-311-000.

Applicants: Northwest Pipeline GP.

Description: Northwest Pipeline GP submits First Revised Sheet 9 et al of its FERC Gas Tariff.

Filed Date: 04/07/2008.

Accession Number: 20080408-0099.

Comment Date: 5 p.m. Eastern Time on Monday, April 21, 2008.

Docket Numbers: RP08-312-000.

Applicants: Williston Basin Interstate Pipeline Co.

Description: Williston Basin Interstate Pipeline Company submits Second Revised Volume 1 et al to be effective April 10, 2008.

Filed Date: 04/10/2008.

Accession Number: 20080410-0132.

Comment Date: 5 p.m. Eastern Time on Tuesday, April 22, 2008.

Docket Numbers: RP08-313-000.

Applicants: Transwestern Pipeline Company, LLC.

Description: Transwestern Pipeline Co, LLC submits First Revised Sheet 6 et al to FERC Gas Tariff, Third Revised Volume 1, to be effective 4/11/08.

Filed Date: 04/10/2008.

Accession Number: 20080411-0091.

Comment Date: 5 p.m. Eastern Time on Tuesday, April 22, 2008.

Docket Numbers: CP05-357-009.

Applicants: Cheniere Creole Trail Pipeline, L.P.

Description: Cheniere Creole Trail Pipeline, LP submits First Revised Sheet No. 5 to FERC Gas Tariff, Original Volume, proposed to be effective 4/24/08.

Filed Date: April 4, 2008.

Accession Number: 20080410-0036.

Comment Date: 5 p.m. Eastern Time on Monday, April 21, 2008.

Docket Numbers: CP08-119-000.

Applicants: Columbia Gulf Transmission Company.

Description: Columbia Gulf Transmission Company submits their abbreviated application for permission and approval to abandon certain FERC Gas Tariff, Volume 2 Rate Schedules.

Filed Date: April 8, 2008.

Accession Number: 20080410-0035.

Comment Date: 5 p.m. Eastern Time on Monday, April 21, 2008.

Docket Numbers: CP08-124-000.

Applicants: Transcontinental Gas Pipe Line Corporation.

Description: Transcontinental Gas Pipe Line Corporation submits an Application for Order Permitting and Approving Abandonment of Services.

Filed Date: April 9, 2008.

Accession Number: 20080410-0133.

Comment Date: 5 p.m. Eastern Time on Monday, April 21, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-8462 Filed 4-18-08; 8:45 am]

BILLING CODE 6717-01-P